DEPARTMENT OF THE INTERIOR

National Park Service

Notice of Inventory Completion: University of Missouri-Columbia, Museum of Anthropology, Columbia, MO

AGENCY: National Park Service, Interior.

ACTION: Notice.

Notice is hereby given in accordance with provisions of the Native American Graves Protection and Repatriation Act (NAGPRA), 25 U.S.C. 3003, Sec. 5, of the completion of an inventory of human remains and associated funerary objects in the possession of the University of Missouri-Columbia, Museum of Anthropology, Columbia, MO. These human remains and funerary objects were removed from a site in Saline County, MO.

This notice is published as part of the National Park Service’s administrative responsibilities under NAGPRA, 25 U.S.C. 3003, Sec. 5 (d)(3). The determinations within this notice are the sole responsibility of the museum, institution, or Federal agency that has control of these Native American human remains and associated funerary objects. The National Park Service is not responsible for the determinations within this notice.

A detailed assessment of the human remains was made by University of Missouri-Columbia professional staff in consultation with representatives of the Iowa Tribe of Kansas and Nebraska; Iowa Tribe of Oklahoma; and Otoe-Missouria Tribe of Indians, Oklahoma.

Between 1939 and 1980, human remains representing a minimum of six individuals were removed from site 23SA002 (Utz site), Saline County, MO, during excavations conducted by University of Missouri-Columbia professional staff, supervised field school students, and volunteers of the Missouri Archaeological Society. No known individuals were identified. The 12 associated funerary objects are faunal remains, 5 pieces of debitage, and 6 pottery fragments.

Based on oral tradition, types of associated funerary objects, and historical documents, these individuals have been determined to be Native American. Based on radiocarbon dating, presence of trade objects, and historical documents, the Utz site has been identified as a village occupation estimated to date to approximately A.D. 1460-1712. Oral tradition, archeological evidence, and historical documents indicate that the Utz site was a village of the Missouria Tribe, and therefore, the burials are reasonably believed to be culturally affiliated with the Otoe-Missouria Tribe of Indians, Oklahoma.

Officials of the University of Missouri-Columbia have determined that, pursuant to 25 U.S.C. 3001, Sec. 2 (9-10), the human remains listed above represent the physical remains of six individuals of Native American ancestry. Officials of the University of Missouri-Columbia also have determined that, pursuant to 25 U.S.C. 3001, Sec. 2 (3)(A), the 12 objects listed above are reasonably believed to have been placed with or near individual human remains at the time of death or later as part of the death rite or ceremony. Lastly, officials of the University of Missouri-Columbia have determined that, pursuant to 25 U.S.C. 3001, Sec. 2 (2), there is a relationship of shared group identity that can be reasonably traced between these Native American human remains and associated funerary objects and the Otoe-Missouria Tribe of Indians, Oklahoma.

Additional human remains and funerary objects from the Utz site (23SA002) were described in two Notices of Inventory Completion published in the Federal Register July 18, 2000 (FR doc. 00-18137, page 44545), and April 3, 2001 (FR doc. 01-8175, pages 17732-17733), and were subsequently repatriated to the Iowa Tribe of Oklahoma on behalf of the Otoe-Missouria Tribe of Indians, Oklahoma.

Representatives of any other Indian tribe that believes itself to be culturally affiliated with these human remains and associated funerary objects should contact Dr. Michael O’Brien, Director, Museum of Anthropology, 317 Lowry Hall, University of Missouri-Columbia, Columbia, MO 65211, telephone (573) 882-4421, before April 7, 2003. Repatriation of the human remains and associated funerary objects to the Otoe-Missouria Tribe of Indians, Oklahoma may begin after that date if no additional claimants come forward.

The University of Missouri-Columbia, Museum of Anthropology is responsible for notifying the Iowa Tribe of Kansas and Nebraska; Iowa Tribe of Oklahoma; and Otoe-Missouria Tribe of Indians, Oklahoma that this notice has been published.

Dated: December 10, 2002.
John Robbins,
Assistant Director, Cultural Resources Stewardship and Partnerships.

[FR Doc. 03-5515 Filed 3-6-03; 8:45 am]

BILLING CODE 4310-70-S